DEPARTMENT OF ENERGY

Federal Energy Regulatory Commission

[Docket No. EL00-62-006, et al.]

ISO New England, Inc., et al.; Electric Rate and Corporate Regulation Filings

October 11, 2000.

Take notice that the following filings have been made with the Commission:

1. ISO New England Inc.

[Docket No. EL00-62-006]

Take notice that on October 5, 2000, the New England Power Pool (NEPOOL) and ISO New England Inc. filed its monthly update concerning its timetable for implementation of the various components of the Congestion Management and Multi-Settlement Systems, as directed by the Commission in its June 28, 2000 Order in this proceeding.

Comment date: November 6, 2000, in accordance with Standard Paragraph E at the end of this notice.

2. Cinergy Services, Inc.

[Docket No. ER01-46-000]

Take notice that on October 5, 2000, Cinergy Services, Inc. (Cinergy), tendered for filing a Service Agreement under Cinergy's Resale, Assignment or Transfer of Transmission Rights and Ancillary Service Rights Tariff (the Tariff) entered into between Cinergy and Merchant Energy Group of the Americas, Inc. (MEGA). This Service Agreement has been executed by both parties and is to replace the existing unexecuted Service Agreement.

Comment date: October 26, 2000, in accordance with Standard Paragraph E at the end of this notice.

3. Cinergy Services, Inc.

[Docket No. ER01-47-000]

Take notice that on October 5, 2000, Cinergy Services, Inc. (Cinergy), tendered for filing a Service Agreement under Cinergy's Resale, Assignment or Transfer of Transmission Rights and Ancillary Service Rights Tariff (the Tariff) entered into between Cinergy and Rainbow Energy Marketing Corporation (REMC). This Service Agreement has been executed by both parties and is to replace the existing unexecuted Service Agreement.

Comment date: October 26, 2000, in accordance with Standard Paragraph E at the end of this notice.

4. Powerex Corp.

[Docket No. ER01-48-000]

Take notice that on October 5, 2000, Powerex Corp. tendered for filing Notice of Succession pursuant to 18 CFR 35.16 and 131.51 of the Commission's Regulations. Powerex Corp. is succeeding to the Rate Schedule FERC No. 1, Market-Based Rate Schedule filed by British Columbia Power Exchange Corporation in Docket No. ER97-4024-000, effective August 1, 1997.

Comment date: October 25, 2000, in accordance with Standard Paragraph E at the end of this notice.

5. The Detroit Edison Company

[Docket No. ER01-49-000]

Take notice that on October 5, 2000, The Detroit Edison Company (Detroit Edison), tendered for filing, Service Agreements (Service Agreements) for Short-Term Firm and Non-Firm Point-to-Point Transmission Service under the Open Access Transmission Tariff of Detroit Edison, FERC Electric Tariff No. 1. These Service Agreements are between Detroit Edison and DTE Energy Trading, dated as of September 27, 2000. The parties have not engaged in any transactions under the Service Agreements prior to thirty days to this filing.

Detroit Edison requests that the Service Agreements be made effective as rate schedules as of October 27, 2000.

Comment date: October 26, 2000, in accordance with Standard Paragraph E at the end of this notice.

6. California Independent System Operator Corporation

[Docket No. ER01-50-000]

Take notice that on October 5, 2000, the California Independent System Operator Corporation (ISO), tendered for filing the Middle Fork-Ralston Physical Scheduling Plant Agreement (Agreement) between the ISO and Pacific Gas and Electric Company (PG&E), for acceptance by the Commission. The purpose of the Agreement is to govern the treatment of PG&E's Middle Fork-Ralston Units, which consists of three Generating Units, as a single Physical Scheduling Plant (PSP) for purposes of providing Regulation to the ISO. The ISO states that this filing has been served upon PG&E, the California Electricity Oversight Board, and the California Public Utilities Commission.

The ISO is requesting waiver of the 60-day notice requirement to allow the Agreement to be made effective as of October 21, 2000.

Comment date: October 26, 2000, in accordance with Standard Paragraph E at the end of this notice.

7. Jersey Central Power & Light Company, Metropolitan Edison Company and Pennsylvania Electric Company

[Docket No. ER01-51-000]

Take notice that on October 5, 2000, Jersey Central Power & Light Company, Metropolitan Edison Company and Pennsylvania Electric Company (d/b/a GPU Energy), tendered for filing an executed Service Agreement between GPU Energy and Southern Company Energy Marketing L.P. (SCEM), dated October 4, 2000. This Service Agreement specifies that SCEM has agreed to the rates, terms and conditions of GPU Energy's Market-Based Sales Tariff (Sales Tariff) designated as FERC Electric Rate Schedule, Second Revised Volume No. 5. The Sales Tariff allows GPU Energy and SCEM to enter into separately scheduled transactions under which GPU Energy will make available for sale, surplus capacity and/or energy.

GPU Energy requests a waiver of the Commission's notice requirements for good cause shown and an effective date of October 4, 2000 for the Service Agreement.

GPU Energy has served copies of the filing on regulatory agencies in New Jersey and Pennsylvania.

Comment date: October 26, 2000, in accordance with Standard Paragraph E at the end of this notice.

8. PJM Interconnection, L.L.C.

[Docket No. ER01-52-000]

Take notice that on October 5, 2000, PJM Interconnection, L.L.C. (PJM), tendered for filing three service agreements with HIS Power & Water, L.L.C. (HIS Power): (1) an executed umbrella service agreement for short-term firm point-to-point transmission service, (2) an executed service agreement for non-firm point-to-point transmission service, and (3) an executed umbrella service agreement for network integration transmission service under state required retail access programs.

Copies of this filing were served upon HIS Power, and the state commissions within the PJM control area.

Comment date: October 26, 2000, in accordance with Standard Paragraph E at the end of this notice.

9. The Confederated Tribes of the Warm Springs Reservation of Oregon, a Federally Recognized Indian Tribe, and Warm Springs Power Enterprises, a Chartered Enterprise of the Confederated Tribes of the Warm Springs Reservation of Oregon

[Docket No. ER01-53-000

Take notice that on October 5, 2000, the Confederated Tribes of the Warm Springs Reservation of Oregon (Tribe), a federally recognized Indian tribe, and Warm Springs Power Enterprises (WSPE), a chartered tribal enterprise, (jointly referred to as Petitioners) tendered for filing an application requesting the Commission to: (1) accept for filing WSPE's Rate Schedule No.1, which will permit the Petitioners to engage in wholesale electric power and energy transactions at market-based rates; and (2) grant such other waivers and blanket authorizations as have been granted to other power marketers. This Application is conditioned on the Commission's finding of public utility jurisdiction over the Petitioners. The Petitioners simultaneously request that FERC disclaim jurisdiction on the grounds that the Petitioners are instrumentalities of the federal government. Irrespective of whether Petitioners are deemed to be jurisdictional public utilities, Petitioners also request: blanket approval, under Parts 20 and 34 of the Commission's Regulations, of future issuances regarding securities and assumptions of liabilities, subject to objection by an interested party; and waiver of Parts 41, 101, and 141 with the exception of 18 CFR 141.14-141.15.

The Petitioners do not currently sell power to any person pursuant to the proposed rate schedule. A copy of their filing, however, has been served on the Oregon Public Utility Commission as a courtesy.

Comment date: October 26, 2000, in accordance with Standard Paragraph E at the end of this notice.

10. Southwest Power Pool, Inc.

[Docket No. ER01-54-000]

Take notice that on October 5, 2000, Southwest Power Pool, Inc. (SPP), tendered for filing five executed service agreement for Firm Point-to-Point Transmission Service with Entergy Power Marketing Corporation, The Energy Authority, Inc., and Western Resources (collectively, the Transmission Customers).

Copies of this filing were served on the Transmission Customers.

Comment date: October 26, 2000, in accordance with Standard Paragraph E at the end of this notice.

11. Virginia Electric and Power Company

[Docket No. ER01-55-000]

Take notice that on October 6, 2000, Virginia Electric and Power Company (Dominion Virginia Power or the Company), tendered for filing a Service Agreement for Long Term Firm Point-to-Point Transmission Service with Dominion Energy Clearinghouse. This Agreement will be designated as Service Agreement No. 303 under Company's FERC Electric Tariff, Revised Volume No. 5.

The foregoing Service Agreement is tendered for filing under the Open Access Transmission Tariff to Eligible Purchasers effective June 7, 2000. Under the tendered Service Agreement, Dominion Virginia Power will provide long term firm point-to-point service to the Transmission Customer under the rates, terms and conditions of the Open Access Transmission Tariff.

Dominion Virginia Power requests an effective date of October 6, 2000, the date of filing of the Service Agreement.

Copies of the filing were served upon Dominion Energy Clearinghouse, the Virginia State Corporation Commission, and the North Carolina Utilities Commission.

Comment date: October 27, 2000, in accordance with Standard Paragraph E at the end of this notice.

12. DPL Energy

[Docket No. ER01-56-000]

Take notice that on October 6, 2000, DPL Energy (DPLE), tendered for filing a long-term transaction agreement with The Dayton Power and Light Company.

Comment date: October 27, 2000, in accordance with Standard Paragraph E at the end of this notice.

13. Arizona Public Service Company

[Docket No. ER01-57-000]

Take notice that on October 6, 2000, Arizona Public Service Company (APS), tendered for filing a revision to the Power Sale Agreement between APS and Citizens Utilities Company.

A copy of this filing has been served on Citizens Utilities Company and the Arizona Corporation Commission.

Comment date: October 27, 2000, in accordance with Standard Paragraph E at the end of this notice.

14. Ameren Services Company

[Docket No. ER01-58-000]

Take notice that on October 6, 2000, Ameren Services Company (ASC), tendered for filing Service Agreements for Firm Point-to-Point Transmission Service and Non-Firm Point-to-Point Transmission Service between ASC and NRG Power Marketing Inc., Ameren Energy Marketing Company and FPL Energy Power Marketing, Inc. ASC asserts that the purpose of the Agreements is to permit ASC to provide transmission services to the parties pursuant to Ameren's Open Access Transmission Tariff.

Comment date: October 27, 2000, in accordance with Standard Paragraph E at the end of this notice.

15. Cinergy Solutions Partners, LLC

[Docket No. QF00-95-000]

Take notice that on October 4, 2000, Cinergy Solutions Partners, LLC (CSP) filed with the Federal Energy Regulatory Commission (Commission) supplemental information regarding its September 18, 2000 application for certification of a facility as a qualifying cogeneration facility pursuant to Section 292.207(b) of the Commission's regulations. No determination has been made that the submittal constitutes a complete filing.

The facility will be a topping cycle cogeneration facility, primarily fired by natural gas (the “Facility”). The thermal energy is used by an industrial food processing facility. The Facility, which will be located in Hamilton County, Ohio, will be owned by Initial Project Company, and indirectly owned by CSP. The interests in CSP pertaining to the Facility are owned by Cinergy Solutions, Inc., and IPP Ventures, LLC.

Comment date: November 3, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-26615 Filed 10-16-00; 8:45 am]

BILLING CODE 6717-01-P